DEPARTMENT OF THE INTERIOR

Bureau of Land Management

[(WY-060-1320-EL), WYW151634]

Notice of availability of West Hay Creek Coal Draft Environmental Impact Statement and Federal Coal Notice of Hearing, Wyoming

AGENCY: Bureau of Land Management, Interior.

ACTION: Notice of Availability (NOA) of a draft environmental impact statement (DEIS) on a maintenance lease for a Federal coal tract in the decertified Powder River Federal Coal Production Region, Wyoming, and notice of public hearing.

SUMMARY: Under the National Environmental Policy Act (NEPA) and the implementing regulations, the Bureau of Land Management (BLM) announces the availability of the West Hay Creek Coal DEIS and announces a public hearing pursuant to 43 Code of Federal Regulations (CFR) 3425.4.

The DEIS analyzes and discloses to the public direct, indirect, and cumulative environmental impacts of issuing a Federal coal lease in the Wyoming portion of the Powder River Basin. The BLM is considering a coal lease issuance as a result of an August 31, 2000 application made by Triton Coal Company, LLC to lease approximately 838 acres (approximately about 130 million in-place tons of coal) of Federal coal near the Buckskin Mine in Campbell County, Wyoming.

The purpose of the public hearing is to solicit comments on the DEIS on the proposed competitive sale of the Federal coal in the West Hay Creek Coal tract, and on the fair market value and maximum economic recovery of the Federal coal.

DATES: Written comments on the DEIS will be accepted for 60 days following the date that the Environmental Protection Agency (EPA) publishes their NOA of the DEIS in the Federal Register. The public hearing will be held at 7 p.m. MST, on April 16, 2003, at the Clarion Hotel, 2009 South Douglas Highway, Gillette, Wyoming. Requests to be included on the mailing list and to receive copies of the DEIS and notification of the comment period and hearing date should be sent to the address, facsimile number, or electronic address listed below.

The BLM asks that those submitting comments on the DEIS make them as specific as possible with reference to page numbers and chapters of the document. Comments that contain only opinions or preferences will not receive a formal response; however, they will be considered and included as part of the BLM decision-making process.

ADDRESSES: Please address questions, comments, or concerns to the Casper Field Office, Bureau of Land Management, Attn: Patricia Karbs, 2987 Prospector Drive, Casper, Wyoming 82604, fax them to 307-261-7587, or send e-mail comments to the attention of Patricia Karbs at casper_wymail@blm.gov. A copy of the DEIS has been sent to affected Federal, State, and local Government agencies; persons, and entities identified as potentially being affected by a decision to lease the Federal coal in this tract; and persons who indicated to the BLM that they wished to receive a copy of the DEIS. Copies of the DEIS are available for public inspection at the following BLM office locations: BLM Wyoming State Office, 5353 Yellowstone Road, Cheyenne, Wyoming 82009; and BLM Casper Field Office, 2987 Prospector Lane, Casper, Wyoming 82604. Comments, including names and street addresses of respondents, will be available for public review at the Casper Field Office at the address listed above during regular business hours (7:45 a.m. through 4:30 p.m.), Monday through Friday, except holidays. Individual respondents may request confidentiality. If you wish to withhold your name or street address from public review or from disclosure under the Freedom of Information Act, you must state this prominently at the beginning of your written comment. Such requests will be honored to the extent allowed by law. All submissions from organizations or businesses, and from individuals identifying themselves as representatives or officials of organizations or businesses, will be made available for public inspection in their entirety.

FOR FURTHER INFORMATION CONTACT: Patricia Karbs or Mike Karbs at the above address, or telephone: 307-261-7600.

SUPPLEMENTARY INFORMATION: On August 31, 2000, Triton Coal Company, LLC, (Triton) filed a coal lease application for a maintenance tract containing approximately 130 million tons of Federal coal covering approximately 838 acres. Triton, the operator of the Buckskin Mine approximately 12 miles north of Gillette, Wyoming, applied to lease the tract as a maintenance tract to extend the life of their existing mining operations under the provisions of the Leasing on Application regulations at 43 CFR 3425. This tract, case number WYW151634, is referred to as the West Hay Creek Coal tract.

On November 5, 2001, BLM received a request from Triton to modify the West Hay Creek Coal tract. The following lands in Campbell County, Wyoming are included in the tract as currently filed:

Sixth Principal Meridian, Wyoming

T. 52 N., R. 72 W.

Sec. 17, lot:

5(S½S½)—10.265 acres

6(S½S½)—10.265 acres

7(S½S½)—10.3475 acres

8(S½S½)—10.3475 acres

9—41.32 acres

10—41.32 acres

11—41.12 acres

12—41.12 acres

13—41.18 acres

14—41.18 acres

Sec. 18, lot:

13(E½)—21.035 acres

20(E½)—20.75 acres

Sec. 19, lot:

5(E½)—20.71 acres

12(E½)—20.84 acres

13(E½)—20.935 acres

20(E½) 21.065 acres

Sec. 20, lot:

2(W½,W½E½) 31.1175 acres

3—41.39 acres

4—41.28 acres

5—41.30 acres

6—41.41 acres

7(W½,W½E½)—31.1325 acres

10(W½,W½E½)—31.1475 acres

11—41.42 acres

12—41.32 acres

13—41.34 acres

14—41.44 acres

Total Acres: 838.0975

The tract as currently filed includes an estimated 130 million tons of in-place coal.

The Buckskin Mine is adjacent to the lease application area and has an approved mining and reclamation plan from the Land Quality Division of the Wyoming Department of Environmental Quality (DEQ). The Mine has an approved air quality permit from the Air Quality Division of the Wyoming DEQ to mine up to 27.5 million tons of coal per year.

The Office of Surface Mining Reclamation and Enforcement (OSM) is a cooperating agency in the preparation of the DEIS. If the tract is leased as a maintenance tract, the new lease will be incorporated into the existing mining and reclamation plan for the adjacent mine. The Secretary of the Interior must approve the revision to the MLA (Mineral Leasing Act) mining plan before the Federal coal can be mined. If the tract is leased, OSM is the Federal agency that would be responsible for recommending approval, approval with conditions, or disapproval of the revised MLA mining plan to the Office of the Secretary of the Interior.

The DEIS analyzes leasing the tract as applied for as described above as a separate Proposed Action. As part of the coal leasing process, BLM has identified and is evaluating other tract configurations which add, or subtract, Federal coal to avoid bypassing coal or to prompt competitive interest in the unleased Federal coal in this area. The tract configuration that BLM has identified is described and analyzed as a separate alternative in the DEIS. The DEIS also analyzes the alternative of rejecting the application to lease Federal coal as the No Action Alternative. The other two alternatives evaluate alternate tract configurations considered by BLM. Under these alternatives, a competitive sale would be held and a lease issued for Federal coal lands included in a tract modified by the BLM.

The Proposed Action and Alternatives being considered in the DEIS are in conformance with the “Approved Resource Management Plan for Public Lands Administered by the Bureau of Land Management Buffalo Field Office” (April 2001), the USDA Forest Service “Final EIS for the Northern Great Plains Management Plans Revision” (May 2001) and the BLM “Platte River Resource Area Resource Management Plan” (1985).

Dated: January 17, 2003.
Alan L. Kesterke,
Associate State Director.

[FR Doc. 03-5888 Filed 3-20-03; 8:45 am]

BILLING CODE 4310-22-P